DEPARTMENT OF HOMELAND SECURITY

U.S. Customs and Border Protection

2026 Trade and Cargo Security Summit

AGENCY: U.S. Customs and Border Protection, Department of Homeland Security.

ACTION: Notice of 2026 Trade and Cargo Security Summit.

SUMMARY: This document announces that U.S. Customs and Border Protection (CBP) will convene the 2026 Trade and Cargo Security Summit (TCSS) in Dallas, TX, on April 28-30, 2026. The 2026 TCSS will be open for the public to attend in person or via webinar. The 2026 TCSS will feature CBP personnel, members of the trade community, and members of other government agencies in panel discussions on CBP's role in international trade initiatives and programs. Members of the international trade and transportation communities and other interested parties are encouraged to attend.

DATES: Tuesday, April 28, 2026 (opening remarks and general sessions, 8:00 a.m.-5:00 p.m. CDT), Wednesday, April 29, 2026 (breakout sessions, 8:00 a.m.-5:00 p.m. CDT), and Thursday, April 30, 2026 (breakout sessions, 8:00 a.m.-12:30 p.m. CDT).

ADDRESSES: The 2026 Trade and Cargo Security Summit will be held at the Hyatt Regency Dallas at 300 Reunion Boulevard, Dallas, TX 75207. Directional signage will be displayed throughout the event space for registration, the sessions, and the exhibits.

Registration: Registration will open on Wednesday, February 11, 2026, at 12:00 p.m. (EST). Registration to attend in person will close on April 16, 2026, at 4:00 p.m. (EDT). Registration to attend virtually via webcast will close on April 24, 2026, at 4:00 p.m. (EDT). Registration information may be found on the event web page at https://inevent.com/en/SCustomsandBorderProtection-1686596630/90-2026TCSSSummit-11160-1763664859/hotsite.php. All registrations must be made online and will be confirmed with payment by credit card only. The registration fee to attend in person is $328.00 per person. The registration fee to attend virtually via webcast is $28.00 per person. Interested parties are requested to register immediately as space is limited. Members of the public who are pre-registered to attend and later need to cancel, may do so by using the link from their confirmation email or by sending an email to TCSS@cbp.dhs.gov. Please include your name and confirmation number with your cancellation request. Cancellation requests made after Friday, April 3, 2026, will not receive a refund.

FOR FURTHER INFORMATION CONTACT: Mrs. Daisy Castro, Office of Trade Relations, U.S. Customs and Border Protection, at (202) 344-1440 or at TCSS@cbp.dhs.gov. The most current 2026 TCSS information can be found at https://inevent.com/en/USCustomsandBorderProtection-1686596630/90-2026TCSSSummit-11160-1763664859/hotsite.php.

For information on facilities or services for individuals with disabilities or to request special assistance at the meeting, please contact Mrs. Daisy Castro, Office of Trade Relations, U.S. Customs and Border Protection, at (202) 344-1440 or at TCSS@cbp.dhs.gov, as soon as possible.

SUPPLEMENTARY INFORMATION: This document announces that U.S. Customs and Border Protection (CBP) will convene the 2026 Trade and Cargo Security Summit (TCSS) in Dallas, TX, on April 28-30, 2026. The format of the 2026 TCSS will consist of general sessions on the first day and breakout sessions on the second and third days. The 2026 TCSS will feature panels composed of CBP personnel, members of the trade community, and representatives from other government agencies. The panel discussions will address various topics of interest to the trade community. The 2026 TCSS agenda will be posted on the CBP website: https://inevent.com/en/USCustomsandBorderProtection-1686596630/90-2026TCSSSummit-11160-1763664859/hotsite.php.

Hotel accommodations have been made available at the Hyatt Regency Dallas at 300 Reunion Boulevard, Dallas, TX 75207. Hotel room block reservation information can be found on the event web page at https://inevent.com/en/USCustomsandBorderProtection-1686596630/90-2026TCSSSummit-11160-1763664859/hotsite.php.

Christopher J. Siepmann,
Executive Director, Office of Trade Relations.

[FR Doc. 2026-03216 Filed 2-18-26; 8:45 am]

BILLING CODE 9111-14-P